DEPARTMENT OF THE TREASURY

Agency Information Collection Activities; Submission for OMB Review; Comment Request; Multiple Bureau of the Fiscal Service Information Collection Requests

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before July 31, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Bureau of the Fiscal Service (FS)

Title: Legacy Treasury Direct Forms.

OMB Control Number: 1530-0042.

Type of Review: Revision of a currently approved collection.

Abstract: Used to purchase and maintain Treasury Bills, Notes and Bonds.

Form: FS Form 5236, FS Form 5178, FS Form 5235, FS Form 5188, FS Form 5191, FS Form 5179.

Affected Public: Individuals or Households.

Estimated Total Annual Burden Hours: 4,528.

Title: Resolution For Transactions Involving Treasury Securities.

OMB Control Number: 1530-0049.

Type of Review: Extension without change of a currently approved collection.

Abstract: Completed by an official of an organization that is designated to act on behalf of the organization.

Form: FS Form 1010.

Affected Public: Businesses or other for-profits.

Estimated Total Annual Burden Hours: 430.

Title: Direct Deposit Sign-Up Form.

OMB Control Number: 1530-0050.

Type of Review: Extension without change of a currently approved collection.

Abstract: Used to request the direct deposit of Series HH or Series H bond interest payments or a savings bond redemption payment.

Form: FS Form 5396.

Affected Public: Individuals or Households.

Estimated Total Annual Burden Hours: 9,167.

Authority: 44 U.S.C. 3501 et seq.

Dated: June 23, 2017.
Jennifer P. Leonard,
Treasury PRA Clearance Officer.

[FR Doc. 2017-13592 Filed 6-29-17; 8:45 am]

BILLING CODE 4810-AS-P